DEPARTMENT OF ENERGY

Office of Environmental Management; Environmental Management Advisory Board; Renewal

Pursuant to Section 14(a)(2)(A) of the Federal Advisory Committee Act (Public Law No. 92-463), and in accordance with Title 41 of the Code of Federal Regulations, section 101-6.1015(a), and following consultation with the Committee Management Secretariat, General Services Administration, notice is hereby given that the Environmental Management Advisory Board has been renewed for a two-year period beginning on January 18, 2000. The Board will provide advice to the Assistant Secretary for Environmental Management.

The purpose of the Board is to provide the Assistant Secretary for Environmental Management with advice and recommendations on Environmental Management projects and issues, such as program budget, strategic planning, risk, technology development, the National Environmental Policy Act, long-term nuclear stewardship, science initiatives, worker health and safety, and program cost effectiveness, from the perspective of affected groups and State, Tribal, and local governments. Consensus recommendations to the Department of Energy from the Board on programmatic nationwide resolution of numerous difficult issues will help achieve the Department's objective of the safe and efficient cleanup of its contaminated sites.

Additionally, the renewal of the Environmental Management Advisory Board has been determined to be essential to the conduct of Department of Energy business and to be in the public interest in connection with the performance of duties imposed on the Department of Energy by law and agreement. The Board will operate in accordance with the provisions of the Federal Advisory Committee Act, and rules and regulations issued in implementation of those Acts.

Further information regarding this Advisory Board may be obtained from Ms. Rachel Samuel at (202) 586-3279.

Issued in Washington, D.C. on January 18, 2000 .
James N. Solit,
Advisory Committee Management Officer.

[FR Doc. 00-2061 Filed 1-31-00; 8:45 am]

BILLING CODE 6450-01-P